DEPARTMENT OF TRANSPORTATION

Federal Aviation Administration

14 CFR Part 39

[Docket No. FAA-2021-0541; Project Identifier AD-2021-00453-A; Amendment 39-21639; AD 2021-14-12]

RIN 2120-AA64

Airworthiness Directives; True Flight Holdings LLC Airplanes

AGENCY: Federal Aviation Administration (FAA), DOT.

ACTION: Final rule; request for comments.

SUMMARY: The FAA is adopting a new airworthiness directive (AD) for all True Flight Holdings LLC Models AA-1, AA-1A, AA-1B, AA-1C, and AA-5 airplanes. This AD was prompted by the report of an accident of an airplane exhibiting bondline corrosion and delamination of the horizontal stabilizers. This AD requires inspecting the horizontal stabilizers, including the bondlines, for cracks, buckles, corrosion, delamination, rust, and previous repair and repairing or replacing parts and applying corrosion inhibitor as necessary. The FAA is issuing this AD to address the unsafe condition on these products.

DATES: This AD is effective July 27, 2021.

The Director of the Federal Register approved the incorporation by reference of a certain publication listed in this AD as of July 27, 2021.

The FAA must receive comments on this AD by August 26, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact True Flight Holdings LLC, 2300 Madison Highway, Valdosta, GA 31601; phone: (229) 242-6337; email: info@trueflightaerospace.com. You may view this service information at the FAA, Airworthiness Products Section, Operational Safety Branch, 901 Locust, Kansas City, MO 64106. For information on the availability of this material at the FAA, call (816) 329-4148. It is also available at https://www.regulations.gov by searching for and locating Docket No. FAA-2021-0541.

Examining the AD Docket

You may examine the AD docket at https://www.regulations.gov by searching for and locating Docket No. FAA-2021-0541; or in person at Docket Operations between 9 a.m. and 5 p.m., Monday through Friday, except Federal holidays. The AD docket contains this final rule, any comments received, and other information. The street address for the Docket Operations is listed above.

FOR FURTHER INFORMATION CONTACT: Fred Caplan, Aviation Safety Engineer, Atlanta ACO Branch, FAA, 1701 Columbia Avenue, College Park, GA 30337; phone: (404) 474-5507; fax: (404) 474-5606; email: frederick.n.caplan@faa.gov.

SUPPLEMENTARY INFORMATION:

Background

The FAA received a report of an accident involving a True Flight Holdings LLC Model AA-5 airplane that occurred on January 19, 2021. During flight, the outboard elevator attach bracket on the horizontal stabilizer detached causing loss of elevator control and significant damage to the airplane. An investigation identified corrosion and delamination of the airplane skin bondlines around the area of the horizontal stabilizer where the elevator attach bracket was attached. Multiple field reports have identified additional instances of corrosion and delamination of skin bondlines around the horizontal stabilizer and other primary structures.

All Models AA-1, AA-1A, AA-1B, AA-1C, and AA-5 Traveler airplanes have horizontal stabilizers that are similar in design and use the same attachment method for the elevators. The affected airplanes are constructed using a metal-to-metal bonding process. While the bond adhesive remains structurally sound throughout the aging process, factors such as corrosion and freezing moisture may compromise the structural integrity of some of the bond joints. This can lead to delamination of the skin from the primary structure.

Field reports indicate that bondline inspections are not being adequately performed during routine inspections. The FAA has determined that a more thorough inspection is necessary to reliably identify corrosion and delamination of bondlines in these critical areas, including the horizontal stabilizer.

This condition, if not addressed, could result in reduced structural integrity with consequent loss of control of the airplane. The FAA is issuing this AD to address the unsafe condition on these products.

FAA's Determination

The FAA is issuing this AD because the agency has determined the unsafe condition described previously is likely to exist or develop in other products of the same type design.

Related Service Information Under 1 CFR Part 51

The FAA reviewed True Flight Aerospace Service Bulletin SB-195, Revision A, dated June 1, 2021 (True Flight SB-195, Revision A). This service information specifies procedures for inspecting the primary structure and flight controls for cracks, buckles, corrosion, delamination, rust, and previous repair and repairing or replacing parts and applying corrosion inhibitor as necessary.

This service information is reasonably available because the interested parties have access to it through their normal course of business or by the means identified in ADDRESSES.

Other Related Service Information

The FAA also reviewed True Flight Aerospace Service Kit 125, Revision B. This service information specifies procedures for repairing bondline delamination of flight controls and structures.

AD Requirements

This AD requires accomplishing the actions specified in the service information already described, except as discussed under “Differences Between the AD and the Service Information.”

Differences Between the AD and the Service Information

True Flight SB-195, Revision A applies to Models AA1, AA-1A, AA-1B, AA-1C, AA5, AA-5A, and AA-5B airplanes. However, this AD only applies to Models AA-1, AA-1A, AA-1B, AA-1C, and AA-5 airplanes. Also, this AD only requires the Part B inspection and repair from True Flight SB-195, Revision A. Actions for the airplanes not affected by this AD are specified in Part A of True Flight SB-195, Revision A, thus the reason for reduced applicability. In addition, True Flight SB-195, Revision A, specifies a reporting requirement, but this AD does not.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because cracks, buckles, corrosion, delamination, rust, and previous repair of the horizontal stabilizers could result in reduced integrity and lead to loss of control of the airplane. Additionally, the compliance time for the inspection of the horizontal stabilizers is within 25 hours time-in-service or before the next 100 hour or annual inspection, whichever occurs first, a time period of up to 3 months based on the average utilization rate of these airplanes. This time period is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0541 and Project Identifier AD-2021-00453-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Caplan, Aviation Safety Engineer, Atlanta ACO Branch, FAA, 1701 Columbia Avenue, College Park, GA 30337. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 1,113 airplanes of U.S. registry.

The FAA estimates the following costs to comply with this AD:

Estimated Costs
Action | Labor cost | Parts cost | Cost per product | Cost on U.S. operators
Inspection for delamination and corrosion | 3 work-hours × $85 per hour = $255 | Not applicable | $255 | $283,815

The FAA estimates the following costs to do any necessary repairs that would be required based on the results of the inspection. The agency has no way of determining the number of airplanes that might need these repairs:

On-Condition Costs
Action | Labor cost | Parts cost | Cost per product
Installation of rivets and repair of bondlines of the horizontal stabilizers | 8 work-hours × $85 per hour = $680 | $115 | $795
Treatment of inside of the horizontal stabilizers with corrosion inhibitor | 1 work-hour × $85 per hour = $85 | 104 | 189

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-14-12 True Flight Holdings LLC: Amendment 39-21639; Docket No. FAA-2021-0541; Project Identifier AD-2021-00453-A.

(a) Effective Date

This airworthiness directive (AD) is effective July 27, 2021.

(b) Affected ADs

None.

(c) Applicability

This AD applies to True Flight Holdings LLC Models AA-1, AA-1A, AA-1B, AA-1C, and AA-5 airplanes, all serial numbers, certificated in any category.

(d) Subject

Joint Aircraft System Component (JASC) Code: 5512, Horizontal Stabilizer, Plate/Skin; 5522, Elevator, Plates/Skin Structure.

(e) Unsafe Condition

This AD was prompted by corrosion and delamination of the horizontal stabilizer bondlines. The FAA is issuing this AD to detect and address cracks, buckles, corrosion, delamination, rust, and previous repair of the horizontal stabilizers. The unsafe condition, if not addressed, could result in reduced structural integrity with consequent loss of control of the airplane.

(f) Compliance

Comply with this AD within the compliance times specified, unless already done.

(g) Inspection of Bondlines of the Horizontal Stabilizers

Within the next 25 hours time-in-service or at the next scheduled 100 hour or annual inspection after the effective date of this AD, whichever occurs first, inspect the horizontal stabilizers, paying particular attention to the bondlines, for cracks, buckles, corrosion, delamination, rust, and previous repair in accordance with paragraphs 1. and 3. of Part B of True Flight Aerospace Service Bulletin SB-195, Revision A, dated June 1, 2021 (True Flight SB-195, Revision A). If there is any crack, buckle, corrosion, delamination, rust, or previous repair, before further flight, repair or replace the affected part in accordance with paragraphs 1.c. and 2. through 4. of True Flight SB-195, Revision A, as applicable.

(h) No Reporting Requirement

True Flight SB-195, Revision A specifies notifying True Flight Holdings LLC of compliance with the service bulletin; however, this AD does not contain that requirement.

(i) Special Flight Permit

A special flight permit is prohibited.

(j) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information.

(2) Before using any approved AMOC, notify your appropriate principal inspector, or lacking a principal inspector, the manager of the local flight standards district office/certificate holding district office.

(k) Related Information

For more information about this AD, contact Fred Caplan, Aviation Safety Engineer, Atlanta ACO Branch, FAA, 1701 Columbia Avenue, College Park, GA 30337; phone: (404) 474-5507; fax: (404) 474-5606; email: frederick.n.caplan@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) True Flight Aerospace Service Bulletin SB-195, Revision A, dated June 1, 2021.

(ii) [Reserved]

(3) For True Flight Aerospace service information identified in this AD, contact True Flight Holdings LLC, 2300 Madison Highway, Valdosta, GA 31601; phone: (229) 242-6337; email: info@trueflightaerospace.com.

(4) You may view this service information at the FAA, Policy and Innovation Division, 901 Locust, Kansas City, MO 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on June 25, 2021.
Lance T. Gant,
Director, Compliance & Airworthiness Division, Aircraft Certification Service.

[FR Doc. 2021-14687 Filed 7-9-21; 8:45 am]

BILLING CODE 4910-13-P